SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB)

Office of Management and Budget, Attn: Desk Officer for SSA, New Executive Office Building, Room 10230, 725 17th St., NW., Washington, DC 20503;

(SSA)

Social Security Administration, DCFAM, Attn: Frederick W. Brickenkamp, 1-A-21 Operations Bldg., 6401 Security Blvd., Baltimore, MD 21235.

I. The information collection listed below will be submitted to OMB within 60 days from the date of this notice. Therefore, your comments should be submitted to SSA within 60 days from the date of this publication. You can obtain copies of the collection instruments by calling the SSA Reports Clearance Officer at 410-965-4145, or by writing to him at the address listed above.

1. Request for Review of Hearing Decision/Order—0960-0277. The information collected on form HA-520 is needed to afford claimants their statutory right under the Social Security Act to request review of a hearing decision. The data will be used to determine the course of action appropriate to resolve each issue. The respondents are claimants denied or dissatisfied with a decision made regarding their claim.

Number of Respondents: 100,500.

Frequency of Response: 1.

Average Burden Per Response: 10 minutes.

Estimated Average Burden: 16,750 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Internet Social Security Benefits Applications (also known as ISBA)—0960-0618. The ISBA (formerly the Internet Retirement Insurance Benefit or IRIB application) is one application that the Commissioner of Social Security will prescribe to meet the requirement to file an application for retirement and/or spouse's benefits. The ISBA application will be available on the Social Security Administration Internet site and will enable individuals to complete the application electronically on their own and submit the application over the Internet. Until SSA develops an acceptable electronic signature process, applicants will also print, sign and mail the ISBA statement with the required evidence that supports their retirement application. The information that SSA collects will be used to determine entitlement to retirement insurance benefits. The respondents are individuals and their spouses, if applicable, who choose to apply for retirement insurance benefits over the Internet.

Number of Respondents: 189,764.

Frequency of Response: 1.

Average Burden Per Response: 20 minutes.

Estimated Annual Burden: 63,255 hours.

2. Certificate of Responsibility for Welfare and Care of Child Not in Applicant's Custody—0960-0019. SSA uses the information collected on form SSA-781 to decide if “in care” requirements are met by non-custodial parent(s), who is filing for benefits based on having a child in care. The respondents are non-custodial wage earners whose entitlement to benefits depends upon having an entitled child in care.

Number of Respondents: 14,000.

Frequency of Response: 1.

Average Burden Per Response: 10 minutes.

Estimated Annual Burden: 2,333 hours.

3. Questionnaire for Children Claiming SSI Benefits—0960-0499. The information collected on form SSA-3881 is used by SSA to evaluate disability in children who apply for Supplemental Security Income (SSI) payments. The respondents are individuals who apply for SSI benefits for a disabled child.

Number of Respondents: 272,000.

Frequency of Response: 1.

Average Burden Per Response: 30 minutes.

Estimated Annual Burden: 136,000 hours.

Dated: February 13, 2001.
Frederick W. Brickenkamp,
Reports Clearance Officer.

[FR Doc. 01-4110 Filed 2-16-01; 8:45 am]

BILLING CODE 4191-02-P